OVERSEAS PRIVATE INVESTMENT CORPORATION

Sunshine Act Meeting; May 22, 2002, Board of Directors Meeting

Time and Date: Wednesday, May 22, 2002, 1:30 p.m. (OPEN Portion), 1:45 p.m. (CLOSED Portion).

Place: Offices of the Corporation, Twelfth Floor Board Room, 1100 New York Avenue, NW., Washington, DC.

Status: Meeting OPEN to the Public from 1:30 p.m. to 1:45 p.m., Closed portion will commence at 1:45 p.m. (approx).

Matters to be Considered:

1. President's Report

2. Approval of January 31, 2002 Minutes (Open Portion)

Further Matters to be Considered:

(Closed to the Public 1:45 p.m.)

1. Finance Project in South America

2. Finance Project in Pakistan

3. Finance Project—Global

4. Insurance Project in Chad

5. Insurance Project in the Philippines

6. Approval of January 31, 2002 Minutes (Closed Portion)

7. Pending Major Projects

8. Reports

CONTACT PERSON FOR INFORMATION: Information on the meeting may be obtained from Connie M. Downs at (202) 336-8438.

Dated: May 9, 2002.
Connie M. Downs,
Corporate Secretary, Overseas Private Investment Corporation.

[FR Doc. 02-11962 Filed 5-9-02; 10:34 am]

BILLING CODE 3210-01-M